DEPARTMENT OF AGRICULTURE

Forest Service

Tri County Resource Advisory Committee

AGENCY: Forest Service, USDA.

ACTION: Notice of meeting.

SUMMARY: The Tri County Resource Advisory Committee will meet in Deer Lodge, Montana. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is review and recommend projects authorized under title II of the Act.

DATES: The meeting will be held September 18, 2012, 5:00 p.m.

ADDRESSES: The meeting will be held at 1002 Hollenback Road, Deer Lodge, Montana at the USDA Service Center Building. Written comments may be submitted as described under Supplementary Information. All comments, including names and addresses when provided, are placed in the record and are available for public inspection and copying. The public may inspect comments received at the Beaverhead-Deerlodge National Forest Headquarters, 420 Barrett Street, Dillon, Montana. Please call ahead to (406) 683-3900 to facilitate entry into the building to view comments.

FOR FURTHER INFORMATION CONTACT: Patty Bates, RAC Coordinator, Beaverhead-Deerlodge Forest, (406) 683-3979 and pbates@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The subjects of the meeting are project proposal review, discussion of funding priorities, presentation of proposals, public input discussion, and recommendation to the Designated Federal Official. The full agenda and project proposals may be viewed at https://fsplaces.fs.fed.us/fsfiles/unit/wo/secure_rural_schools.nsf/. Anyone who would like to bring related matters to the attention of the committee may file written statements with the committee staff before or after the meeting. The agenda will include time for people to make oral statements of three minutes or less. Individuals wishing to make an oral statement should request in writing by September 11, 2012 to be scheduled on the agenda. Written comments and requests for time for oral comments must be sent to Beaverhead-Deerlodge National Forest, 420 Barrett Street, Dillon, MT 59725, or by email to pbates@fs.fed.us, or via facsimile to (406) 683-3944.

A summary of the meeting will be posted at https://fsplaces.fs.fed.us/fsfiles/unit/wo/secure_rural-schools.nsf/ within 21 days of the meeting.

Meeting Accommodations: If you are a person requiring reasonable accommodation, please make requests in advance for sign language interpreting, assistive listening devices or other reasonable accommodation for access to the facility or proceedings by contacting the person listed under For Further Information Contact. All reasonable accommodation requests are managed on a case by case basis.

Dated: August 21, 2012.
David R. Myers,
Forest Supervisor.

[FR Doc. 2012-21172 Filed 8-28-12; 8:45 am]

BILLING CODE 3410-11-M